DEPARTMENT OF AGRICULTURE

Food Safety and Inspection Service

9 CFR Part 327

[Docket No. 99-018F]

Addition of Slovakia to the List of Countries Eligible To Export Meat Products to the United States

AGENCY: Food Safety and Inspection Service, USDA.

ACTION: Final rule.

SUMMARY: The Food Safety and Inspection Service (FSIS) is adding Slovakia to the list of countries eligible to export meat products to the United States. Reviews of Slovakia's laws, regulations, and other written materials show that its meat processing system meets requirements that are equivalent to the relevant provisions of the Federal Meat Inspection Act (FMIA) and its implementing regulations.

Meat products processed in certified establishments in Slovakia will be eligible to be exported to the United States only if these products are derived from cattle, sheep, swine, or goats slaughtered in federally inspected establishments in the United States, or in certified slaughter establishments in other countries eligible to export meat to the United States. All meat products exported from Slovakia to the United States will be subject to reinspection at the U.S. ports-of-entry by FSIS inspectors as required by law.

EFFECTIVE DATE: April 11, 2005.

FOR FURTHER INFORMATION CONTACT: Ms. Sally White, Director, International Equivalence Staff, Office of International Affairs; (202) 720-6400.

SUPPLEMENTARY INFORMATION:

Background

On August 13, 2001, FSIS published a proposal in the Federal Register (66 FR 42472) to add Slovakia to the list of countries eligible to export meat and meat products to the United States. As discussed in that proposed rulemaking, in 1993, the country formerly known as Czechoslovakia split into two separate countries, the Czech Republic and Slovakia. Although Czechoslovakia had been listed as eligible to export meat and meat products to the United States since 1972, the part of the country that became Slovakia had never had any establishments certified to export meat or meat products to the United States. Thus, FSIS did not have sufficient information about Slovakia's meat inspection system to determine whether it was equivalent to the U.S. system. Therefore, the Agency required that Slovakia request and receive approval from FSIS before it could be deemed eligible to export meat and meat products to the United States.

In the proposed rule, FSIS reported that Slovakia had met the certification requirements imposed in the United States' meat inspection regulations, that its meat processing inspection system is equivalent to that of the United States, and that its official residue control laboratory is fully capable of testing meat food products. Therefore, FSIS proposed to permit Slovakia to export processed meat products to the United States.

Because only one pork processing establishment in Slovakia had requested certification to export meat products to the United States, Slovakia requested that FSIS evaluate and approve only its meat processing inspection system. Thus, FSIS' equivalence evaluation of Slovakia's meat inspection system did not include a review of the slaughter inspection component. As a result, the carcasses or parts of any cattle, sheep, swine, or goats processed in establishments in Slovakia approved to export to the United States must be derived from animals slaughtered in the United States under USDA inspection or in establishments in other countries that are certified as eligible to export to the United States. The government of Slovakia has agreed to conduct its program in a way that ensures that meat products processed in Slovakia are only prepared from cattle, sheep, swine, or goats that were slaughtered in certified establishments in eligible countries. If FSIS were to evaluate Slovakia's slaughter inspection system and determine that it is equivalent to that of the United States, the Agency would conduct a separate rulemaking.

Therefore, when this rule becomes effective, meat products processed in certified establishments in Slovakia will be eligible for exportation to the United States only if these products are derived from cattle, sheep, swine, or goats slaughtered in federally inspected establishments in the United States, or in certified slaughter establishments in other countries eligible to export meat to the United States.

Comments

FSIS received 36 comments on the proposed rule. Most were from private citizens and individual members of a women's agricultural organization, a few were from small cattle producers, and one was from a national cattle producer trade association. All commenters opposed adding Slovakia to the list of countries eligible to export meat and meat products into the United States.

Comment: Most of the commenters opposed the proposed rule because, at the time that the rule was published, Slovakia was listed in USDA's Animal and Plant Health Inspection Service (APHIS) regulations as a region that presents an undue risk of introducing bovine spongiform encephalopathy (BSE) into the United States (9 CFR 94.18(a)(2)). After publication of the proposed rule, APHIS amended its regulations to add Slovakia to the list of countries in which BSE is known to exist (9 CFR 94.18(a)(1)). The commenters stated that, because of Slovakia's BSE status, it should remain ineligible to export meat and meat products to the United States under FSIS' regulations.

One commenter opposed permitting Slovakia to export meat and meat products to the United States because Slovakia is not listed by APHIS as a region that is free from foot and mouth disease (FMD)(9 CFR 94.1). The commenter stated that if Slovakia were listed as eligible to export meat and meat products to the United States, there is a risk that these products could introduce FMD to the United States.

Response: FSIS considered both BSE and FMD risk in its evaluation process for meat products currently proposed for importation into the United States from Slovakia.¹ Although Slovakia would be listed in FSIS’ regulations as eligible to export meat products to the United States, FSIS’ regulations that list countries eligible to export products of cattle, sheep, swine, and goats to the United States do not authorize the entry of products that are ineligible for importation into the United States because they are from countries in which certain contagious and communicable diseases, such as FMD, exist as provided in 9 CFR part 94 (see 9 CFR 327.2(b)). Meat products must comply with all U.S. requirements prior to entry. Before a shipment of meat or meat products may be presented for re-inspection at the port-of entry by FSIS, it must have first met the requirements of both the U.S. Customs Service and APHIS.

¹ Currently, the one establishment that would be certified to export meat food products from Slovakia to the United States intends to export only pork products.

APHIS is responsible for keeping animal diseases, such as BSE and FMD, out of the country. Under Title 9, part 94 of its regulations (9 CFR 94), APHIS sets forth restrictions on the importation of any fresh, frozen, and chilled meat, meat products, and certain other edible products from countries in which certain animal diseases exist. Those products that APHIS has restricted from entering the United States because of animal disease conditions in the country of origin will be refused entry before reaching an FSIS import inspection facility.

FSIS and APHIS work closely together to ensure that meat and meat products imported into the United States comply with the regulatory requirements of both agencies. The agencies have established procedures for communication to ensure that products that APHIS has restricted from entering the United States because of animal disease concerns are refused entry into the United States.

For the reasons discussed above, FSIS believes that sufficient controls are in place to ensure that listing Slovakia as eligible to export meat and meat products processed in Slovakia will not pose a BSE or FMD risk to the United States.

Comment: Several commenters, all individual consumers, opposed the importation of beef from any foreign country into the United States due to general concerns about the safety of foreign beef.

Response: Meat and meat products exported to the United States from another nation must meet equivalent safety standards applied to meat and meat products produced in the United States. FSIS makes determinations of equivalence by evaluating whether foreign food regulatory systems have in place the appropriate level of protection to meet the equivalent level of food safety as provided by the U.S. domestic system. Thus, while foreign food regulatory systems need not be identical to the U.S. system, they must employ equivalent sanitary measures that provide the same level of protection against food hazards as is achieved domestically. Beef and beef products from foreign countries that do not comply with these requirements are ineligible for importation into the United States.

As discussed above, only one pork processing establishment in Slovakia has requested certification to export meat products to the United States. Furthermore, beef and beef products are among the products that are ineligible for importation into the United States under 9 CFR part 94 of APHIS’ regulations. Thus, at this time, Slovakia will not be exporting beef to the United States.

Comment: One commenter objected to the importation of live cattle into the United States until the United States has a “* * * rigid inspection system set up [that] is fool proof against any bioterrorism attack.”

Response: This comment is outside the scope of this rulemaking. This final rule does not affect the importation of live cattle from Slovakia into the United States. The importation of live cattle from Slovakia into the United States is prohibited by APHIS under 9 CFR 94.18(a)(1).

Executive Order 12988

This final rule has been reviewed under Executive Order 12988, Civil Justice Reform. If this final rule is adopted: (1) All State and local laws and regulations that are inconsistent with this rule will be preempted; (2) no retroactive effect will be given to this rule; and (3) administrative proceedings will not be required before parties may file suit in court challenging this rule.

Executive Order 12866 and Regulatory Flexibility Act

This final rule has been reviewed under Executive Order 12866. It has been determined to be non-significant, for purposes of E.O. 12866, and therefore, has not been reviewed by the Office of Management and Budget (OMB).

There is only one establishment in Slovakia that has applied to export meat products to the United States. This establishment plans to export non-heat treated shelf stable pork products, such as sausages and salami, and non-shelf stable cooked pork products, such as pasteurized hams and specialty cured, cooked, and smoked meat products. U.S. imports from this establishment are expected to total 520 tons per year.

U.S. firms currently export no meat products and only a small amount of poultry products to Slovakia. Table A presents the most updated information currently available of U.S. exports of poultry and pork products to Slovakia from 1994 to 2000. Poultry exports were highest in 1994, before declining and eventually falling to zero in 1996. Poultry exports reappeared again in 1998, but again at relatively low levels.

Table A also reports U.S. exports of pork products to Slovakia. Between 1994 and 2000, U.S. firms exported pork products to Slovakia only once, in 1994. Since then, the U.S. has not had any exports of meat products to Slovakia.

This final rule could begin to reopen trade between the United States and Slovakia. During much of the mid-1990's, many emerging democratic nations faced substantial economic obstacles. Listing Slovakia as a country eligible to export meat and meat products to the United States could begin the process of reacquainting Slovakia with U.S. firms.

Expected benefits from this rule would generally accrue to consumers from an increased choice of meat products in the marketplace. The costs of this final rule will accrue primarily to producers in the form of greater competition from Slovakia. However, the volume of trade stimulated by this rule is expected to be very small and is likely to have little effect on supply and farm-level prices.

In addition to this action, FSIS considered the option of not listing Slovakia as eligible to export meat and meat products to the United States. This alternative was rejected however, because FSIS found that the Slovakian meat inspection system complies with all the requirements of the FMIA and FSIS regulations for exporting processed meat and meat products to the United States.

Table A.—U.S. Exports of Poultry and Pork Products to Slovakia, 1994-2000
Calendar year | Quantity (tons) | Value | Average price per ton
Poultry:
1994 | 283 | $354,000 | $1250.88
1995 | 22 | 20,000 | 909.09
1996 | 0 | 0.00 | NA
1997 | 0 | 0.00 | NA
1998 | 68 | 68,000 | 1000.00
1999 | 24 | 14,000 | 583.30
2000 | 69 | 55,000 | 797.10
Pork:
1994 | 38 | 39,480 | 1038.95
1995 | 0 | 0.00 | NA
1996 | 0 | 0.00 | NA
1997 | 0 | 0.00 | NA
1998 | 0 | 0.00 | NA
1999 | 0 | 0.00 | NA
2000 | 0 | 0.00 | NA
Source: USDA Foreign Agricultural Service.

Effect on Small Entities

The Administrator, FSIS, has made an initial determination that this final rule will not have a significant impact on a substantial number of small entities, as defined by the Regulatory Flexibility Act (5 U.S.C. 601 et seq.). This final rule adds Slovakia to the list of countries eligible to export meat and meat products to the United States. Only one establishment in Slovakia has applied to export product to the United States. This establishment plans to export approximately 520 tons of non-heat treated shelf stable pork products and non-shelf stable cooked pork products to the United States per year. Because the volume of pork products exported from Slovakia to the United States is expected to be very small, this final rule is not likely have much of an effect on supply and prices. Therefore, this final rule is not expected to have a significant impact on small domestic entities that produce these types of products.

Paperwork Requirements

No new paperwork requirements are associated with this final rule. A foreign country that wants to export meat products to the United States is required to provide information to FSIS to certify that its inspection system provides standards equivalent to those of the United States and that the legal authority for the system and its implementing regulations are equivalent to those of the United States before it may start exporting such product to the United States. FSIS collects this information one time only. FSIS gave Slovakia questionnaires asking for detailed information about the country's inspection practices and procedures to assist the country in organizing its materials. This information collection was approved under OMB number 0583-0094. This final rule contains no other paperwork requirements.

Additional Public Notification

Public awareness of all segments of rulemaking and policy development is important. Consequently, in an effort to ensure that the public and in particular minorities, women, and persons with disabilities, are aware of this final rule, FSIS will announce it on-line through the FSIS Web page located at http://www.fsis.usda.gov.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

List of Subjects 9 CFR Part 327

Imports, Meat and meat products.

For the reasons set out in the preamble 9 CFR part 327 is amended as follows:

PART 327—IMPORTED PRODUCTS

1. The authority citation for part 327 continues to read as follows:

Authority: 21 U.S.C. 601-695; 7 CFR 2.18, 2.53.

2. Section 327.2 is amended by adding “Slovakia” with footnote 1 in alphabetical order to the list of countries in paragraph (b) to read as follows:

§ 327.2 Eligibility of foreign countries for importation of products into the United States.

* * * * *

(b) * * *

Slovakia ¹

¹ May export to the United States only processed meat food products derived from animals slaughtered under Federal inspection in the United States, or in a country eligible to export meat and meat products to the United States.

Done at Washington, DC, on: February 3, 2005.
Barbara J. Masters,
Acting Administrator.

[FR Doc. 05-2389 Filed 2-7-05; 8:45 am]

BILLING CODE 3410-DM-P